DEPARTMENT OF JUSTICE

Notice of Lodging of Consent Decree Under the Comprehensive Environmental Response, Compensation, and Liability Act of 1980

Notice is hereby given that on April 7, 2004 a proposed consent Decree in United States v. Bullion Beck Mining Corporation, Godiva Silver Mines, Inc., Keystone Surveys, Inc., and Spenst Hansen, an action under sections 107 and 113 of the Comprehensive Environmental Response, Compensation, and Liability Act of 1980 (“CERCLA”), as amended, 42 U.S.C. 9607 and 9613, was lodged with the United States District Court for the District of Utah, Case No. 2:04CV00311 TS.

In this action, the United States sought the recovery of costs incurred and to be incurred by the United states in response to releases or threatened releases of hazardous substances at and from the Eureka Mills NPL site located in Eureka, Utah (the “Site”). The United States alleged that Bullion Beck Mining Corporation, Godiva Silver Mines, Inc., Keystone Surveys, Inc., and Spenst Hansen (the “Hansen Companies”) are liable for response costs under CERCLA section 107(a)(1), 42 U.S.C. 9607(a)(1), as the present owner of a portion of the Site upon which hazardous substances have been released.

The Hansen Companies' settlement is based on the limited financial resources available to the Companies and Mr. Spenst Hansen. The Decree provides for various in-kind contributions of materials like clean water and soil necessary to implement the clean up, allows EPA to construct response action structures on the Hansen Company properties, and provides for operation and maintenance of response action structures by the Hansen Companies. The Decree also contains the parties' promises to perform operation and maintenance work necessary to maintain the remedy on those portions of the Site owned by the Hansen Companies.

The Department of Justice will receive for a period of thirty (30) days from the date of this publication comments relating to the Consent Decree. Comments should be addressed to the Assistant Attorney General, Environment and Natural Resources Division, P.O. Box 7611, U.S. Department of Justice, Washington, DC. 20044-7611, and should refer to United States v. Bullion Beck Mining Corporation, Godiva Silver Mines, Inc., Keystone Surveys, Inc., and Spenst Hansen, Civil Action No. 2:04CV00311 TS, D.J. Ref. 90-11-3-07993/1.

The Consent Decree may be examined at U.S. EPA Region 8, 999 18th Street, Suite 500, Denver, Colorado, 80202. During the public comment period, the Settlement Agreement, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the consent Decree Library, please enclose a check in the amount of $12.25 for the Hansen Companies Consent Decree (excluding appendices), or $20.75 (including appendices) payable to the U.S. Treasury.

Robert Brook,
Assistant Chief, Environmental Enforcement Section, Environment and Natural Resources Division.

[FR Doc. 04-9093 Filed 4-21-04; 8:45 am]

BILLING CODE 4410-15-M